DEPARTMENT OF VETERANS AFFAIRS

Advisory Committee on Minority Veterans, Notice of Meeting

The Department of Veterans Affairs (VA), in accordance with Public Law 103-446, and Public Law 92-463, (Committee) will be held from Monday, June 5, 2000 to Wednesday, June 7, 2000, in Washington, DC. The purpose of the Committee is to advise the Secretary of Veterans Affairs on the administration of VA benefits and services to minority veterans; to assess the needs of minority veterans and to evaluate whether VA compensation, medical and rehabilitation services, outreach, and other programs are meeting those needs. The Committee will make recommendations to the Secretary regarding such activities.

The meeting will convene to room 830, VA Central Office Building, 810 Vermont Avenue, NW, Washington, DC, from 8:30 a.m. to 5:00 p.m. each day. On June 5, the Committee will focus on such health care issues as minority health—a global assessment, medical research, Board of Veterans Appeals (BVA) operations, and Minority and Veterans Business contacting. On Tuesday, June 6, the Committee will concentrate its effort on a report of a Veterans Identity Study, Hepatitis C infections, the cardiac care program evaluation, the Veterans' Benefits Administration's Road Map to Excellence and National Cemetery operations. The Committee will work in Subcommittees in the afternoon session. On Wednesday, June 7, the Committee will examine several diversity training programs and will begin drafting its annual report for Fiscal Year 2000.

These sessions will be open to the public. In order to notify the VA Security Office of the number of visitors to expect, those wishing to attend the meeting should contact Mr. Anthony T. Hawkins, Department of Veterans Affairs, at (202) 273-6708, before June 1, 2000. No time will be allocated for receiving oral presentations from the public. However, the Committee will accept written comments from interested parties on issues affecting minority veterans. Such comments should be referred to the Committee at the following address: Advisory Committee on Minority Veterans, Center for Minority Veterans (00M), U.S. Department of Veterans Affairs, 810 Vermont Avenue, NW, Washington, DC 20420.

Dated: May 16, 2000.
By Direction of the Secretary.
Marvin R. Eason,
Committee Management Officer.

FR Doc. 00-13167 Filed 5-24-00; 8:45 am]

BILLING CODE 8320-01-M